DEPARTMENT OF ENERGY

Federal Energy Regulatory Commission

[Docket No. RP03-608-001]

Williston Basin Interstate Pipeline Company; Notice of Compliance Filing

November 18, 2003.

Take notice that on November 14, 2003, Williston Basin Interstate Pipeline Company (Williston Basin), tendered for filing as part of its FERC Gas Tariff, Second Revised Volume No. 1, Substitute Second Revised Sheet No. 232D, to become effective October 16, 2003.

Williston Basin states that the tariff sheet expressly provides that it will hold an open season for an expansion project for which Williston Basin will reserve capacity available for firm service, and specifies when it will hold that open season, in compliance with the Commission's October 16, 2003 Order in the above referenced docket.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00379 Filed 11-24-03; 8:45 am]

BILLING CODE 6717-01-P